DEPARTMENT OF VETERANS AFFAIRS

AR16—Notice of Request for Information on the Department of Veterans Affairs' Staff Sergeant Parker Gordon Fox Suicide Prevention Grant Program

AGENCY: Department of Veterans Affairs.

ACTION: Request for information.

SUMMARY: The Department of Veterans Affairs (VA) is requesting information to assist in implementing the requirements of section 201 of the Commander John Scott Hannon Veterans Mental Health Care Improvement Act of 2019. The Act mandates VA to establish the Staff Sergeant Parker Gordon Fox Suicide Prevention Grant Program (SSG Fox SPGP) to reduce veteran suicide through a three-year community-based grant program that would provide financial assistance to eligible entities to provide or coordinate providing suicide prevention services to eligible veterans and their families. VA is required to consult with certain entities related to administering this new grant program, and through this request for information, VA seeks comments on various topics to help inform VA's development of the SSG Fox SPGP and its implementing regulations.

DATES: Comments are due on or before April 22, 2021.

ADDRESSES: Comments must be submitted through www.Regulations.gov and will be available for public viewing, inspection or copies.

FOR FURTHER INFORMATION CONTACT: Juliana Hallows, Associate Director for Policy and Planning—Suicide Prevention Program, Office of Mental Health and Suicide Prevention (OMHSP), 11MHSP, 810 Vermont Avenue NW, Washington, DC 20420, 202-266-4653 (This is not a toll-free telephone number).

SUPPLEMENTARY INFORMATION:

Background

Section 201 of the Commander John Scott Hannon Veterans Mental Health Care Improvement Act of 2019 (the Act), Public Law 116-171, enacted on October 17, 2020, created a new community-based suicide prevention grant program to reduce veteran suicide. Section 201 authorizes the award of grants for no more than $750,000 per grantee per fiscal year to eligible entities to provide or coordinate providing suicide prevention services to eligible individuals and their families. An eligible individual is a person at risk of suicide who is a veteran as defined in 38 U.S.C. 101, an individual described in 38 U.S.C. 1720I(b), or an individual described in 38 U.S.C. 1712A(a)(1)(C)(i)-(iv).

The Secretary is required to implement the SSG Fox SPGP in coordination with the President's Roadmap to Empower Veterans and End a National Tragedy of Suicide (PREVENTS) Task Force and in consultation with VA's OMHSP.

Consultation With Interested Parties

In administering the SSG Fox SPGP, VA is required to consult with certain entities to:

1. Establish the criteria for selecting eligible entities that have submitted applications;

2. Develop a framework for collecting and sharing information about eligible entities receiving grants; and

3. Develop the measures and metrics eligible entities receiving grants will use to determine the effectiveness of programming provided to improve mental health status, well-being and reduce suicide risk and deaths by suicide.

VA is also required to consult with entities in developing a plan for the design and implementing the provision of grants, including criteria for awarding such grants, and on non-traditional and innovative approaches and treatment practices. The Act requires VA to specifically consult with the following entities: (1) Veterans Service Organizations; (2) National organizations representing potential community partners in providing supportive services to address the needs of veterans and their families, including national organizations that advocate for the needs of individuals with or at risk of behavioral health conditions; represent mayors, unions, first responders, chiefs of police and sheriffs, governors, a territory of the United States or represent a Tribal alliance; (3) National organizations representing members of the Armed Forces; (4) National organizations that represent counties; (5) Organizations with which VA has a current memorandum of agreement or understanding related to mental health or suicide prevention; (6) State Departments of Veterans Affairs; (7) National organizations representing members of the Reserve Components of the Armed Forces; (8) National organizations representing members of the Coast Guard; (9) Organizations, including institutions of higher education, with experience in creating measurement tools for purposes of advising the Secretary on the most appropriate existing measurement tool or protocol for VA to utilize; (10) The National Alliance on Mental Illness; (11) a labor organization (as such term is defined in 5 U.S.C. 7103(a)(4)); (12) The Centers for Disease Control and Prevention (CDC), the Substance Abuse and Mental Health Services Administration and PREVENTS; and such other organizations as the Secretary deems appropriate.

This request for information, described in more detail below, serves as VA's consultation as required by the Act. Responses to this request for information will be used to inform developing the SSG Fox SPGP and its implementing regulations. This notice and request for information has a comment period of 21 days, during which VA invites individuals, groups and entities to reply to the questions presented below. VA believes that 21 days is sufficient to provide comments, as the individuals, groups and entities interested in this program likely have information and opinions readily available or can quickly compile and submit such information. Commenters are encouraged to provide complete but concise responses to the questions outlined below. Please note that VA will not respond to comments or other questions regarding policy plans, decisions or issues regarding this notice. Comments received in response to this notice will be evaluated and, as appropriate, incorporated into a proposed rulemaking for grants under this law.

VA will also be holding virtual public listening sessions to provide these groups and entities an opportunity to share additional information. VA will publish information for these listening sessions in a future notice in the Federal Register.

Request for Information

To design and implement the SSG Fox SPGP consistent with, and pursuant to, section 201 of the Act, the Secretary seeks information on the topics and issues listed below. Commenters do not need to address every question and should focus on those that relate to their expertise or perspectives. To the extent possible, please clearly indicate which topics and issues you address in your response.

A. Distribution and Selection of Grants (Section 201(d)(h)(1) of the Act)

1. What criteria should VA establish for the selection of eligible entities that will submit applications under SSG Fox SPGP?

a. How should VA weigh organizations that have worked extensively with the veteran populations versus organizations with limited suicide prevention work with veterans?

b. How should VA consider prior experience working with vulnerable and disenfranchised populations?

2. Pursuant to the Act, the Secretary shall give preference to eligible entities that have demonstrated the ability to provide or coordinate suicide prevention services. How should VA weigh evidence of demonstrated ability to provide or coordinate suicide prevention services, in giving preference to eligible entities that have demonstrated such ability?

3. Pursuant to the Act, the Secretary may prioritize rural communities, Tribal Lands, territories of the United States, medically underserved areas, areas with a high number or percentage of minority veterans or women veterans, and the areas with a high number or percentage of calls to the Veterans Crisis Line. How should VA consider these factors in selecting applicants?

B. Administration of Grant Program: Development of Measures and Metrics (Section 201(h)(2) of the Act)

1. How should VA collect and share information about entities in receipt of grants under the SSG Fox SPGP? For example, should VA create a public grantee roster with services noted and contact information of each grantee?

2. How can shared information about entities be used to improve the provision or coordination of suicide prevention services for eligible individuals and families?

a. What measures and metrics should eligible entities, who are in receipt of grants under the SSG Fox SPGP, use to determine the effectiveness of the programs they are providing?

b. What existing measurements tool or protocols are available to determine program effectiveness?

c. Which of these should be used for purposes of measuring effectiveness of programs provided through this grant program?

3. Should VA consider measures or metrics to evaluate how grantees identify or eliminate barriers for eligible individuals seeking or obtaining suicide prevention services?

C. Training and Technical Assistance (Section 201(g) of the Act)

Section 201(g) of the Act provides that the Secretary, in coordination with the CDC, shall provide training and technical assistance to grant recipients. The required training and technical assistance will cover suicide risk identification and management, data required to be collected and shared with VA, the means of data collection and sharing, use of tools to be used to measure the effectiveness of the grants and the reporting requirements. The Secretary may provide the training and technical assistance directly or through grants or contracts with appropriate public or nonprofit entities.

1. What training and technical assistance programs and tools currently exist for the specified subject areas described above that could be utilized by VA?

2. What data collection tools and training currently exist for the specified subject areas that could be utilized by VA?

3. What tools and training currently exist for measuring the effectiveness of grants that could be utilized by VA?

4. What tools and training currently exist for managing reporting requirements that could be utilized by VA?

5. Should VA provide training and/or technical assistance directly, through grants or contracts with appropriate public or nonprofit entities, or a combination of both?

D. Referral for Care (Section 201(m) of the Act)

Section 201(m) of the Act provides that if an eligible entity in receipt of a grant under the SSG Fox SPGP determines that an eligible individual is at-risk of suicide or other mental or behavioral health condition pursuant to a baseline mental health screening conducted under subsection (q)(11)(A)(ii) of the Act with respect to the individual, the entity shall refer the eligible individual to VA for additional care under subsection (n) of the Act or any other provision of law. Section 201(m) of the Act also provides that if an eligible entity in receipt of a grant under the SSG Fox SPGP determines that an eligible individual furnished clinical services for emergency treatment under subsection (q)(11)(A)(iv) of the Act requires ongoing services, the entity shall refer the eligible individual to VA for additional care under subsection (n) of the Act or any other provision of law.

1. When an eligible entity in receipt of a grant under the SSG Fox SPGP determines that an eligible individual is at-risk of suicide or other mental or behavioral health condition pursuant to a qualifying baseline mental health screening, by what mechanism should the eligible entity refer the eligible individual to VA for additional care?

2. When an eligible entity in receipt of a grant under the SSG Fox SPGP determines that an eligible individual furnished clinical services for emergency treatment requires ongoing services, by what mechanism should the eligible entity refer the eligible individual to VA for additional care?

3. How should referrals to VA for additional care be tracked and reported by eligible entities?

E. Risk of Suicide

Section 201(q)(8) of the Act directs the Secretary to determine by regulation the degrees of risk of suicide using health, environmental, and historical risk factors enumerated in section 201(q)(8)(A)(i)-(iii). For health, these are: Mental health challenges, substance abuse (that is, substance use disorder), serious or chronic conditions or pain, or traumatic brain injury. Environmental risks factors include: Prolonged stress, stressful life events, unemployment, homelessness, recent loss, and legal or financial challenges. Historical risk factors include: Previous suicide attempts; family history of suicide; and history of abuse, neglect, or trauma. Section 201(q)(8) also provides that the Secretary may, through regulation, establish a process for determining the degrees of risk of suicide for use by grant recipients to focus the delivery of suicide prevention services.

1. What degree(s) of exposure to, or the existence of, the health, environmental, and historical risk factors enumerated in section 201(q)(8)(A)(i)-(iii) should VA utilize in determining degrees of risk of suicide?

2. What process should VA establish for use by grant recipients in determining the degrees of risk of suicide to focus the delivery of services using grant funds?

3. Are there existing measurement tools for assessing environmental, historical, and health risk factors that grant recipients could utilize as part of their determination of degree of suicide risk?

F. Suicide Prevention Services

Section 201(q)(11)(A)(x) of the Act notes that suicide prevention services include non-traditional and innovative approaches and treatment practices, as determined appropriate by the Secretary, in consultation with appropriate entities.

1. What non-traditional and innovative approaches and treatment practices should VA consider?

Paperwork Reduction Act

This request for information constitutes a general solicitation of public comments as stated in the implementing regulations of the Paperwork Reduction Act of 1995 at 5 CFR 1320.3(h)(4). Therefore, this request for information does not impose information collection requirements (i.e., reporting, recordkeeping or third-party disclosure requirements). Consequently, there is no need for review by the Office of Management and Budget under the authority of the Paperwork Reduction Act of 1995 (44 U.S.C. 3501, et seq.).

Signing Authority

Denis McDonough, Secretary of Veterans Affairs, approved this document on March 11, 2021, and authorized the undersigned to sign and submit the document to the Office of the Federal Register for publication electronically as an official document of the Department of Veterans Affairs.

Jeffrey M. Martin,
Assistant Director, Office of Regulation Policy & Management, Office of the Secretary, Department of Veterans Affairs.

[FR Doc. 2021-06392 Filed 3-31-21; 8:45 am]

BILLING CODE 8320-01-P